FEDERAL ELECTION COMMISSION

Sunshine Act Notices

AGENCY: Federal Election Commission.

DATE & TIME: Thursday, December 17, 2009, at 10 a.m.

Place: 999 E Street, NW., Washington, DC (Ninth Floor).

Status: This meeting will be open to the public.

The following item has been added to the agenda for the above-captioned open meeting:

Rulemaking to Repeal 11 CFR 100.57, 106.6(c) & (f).

Individuals who plan to attend and require special assistance, such as sign language interpretation or other reasonable accommodations, should contact Mary Dove, Commission Secretary, at (202) 694-1040, at least 72 hours prior to the hearing date.

Person to Contact for Information: Judith Ingram, Press Officer, Telephone: (202) 694-1220.

Mary Dove,
Secretary of the Commission.

[FR Doc. E9-30058 Filed 12-18-09; 8:45 am]

BILLING CODE 6715-01-M